DEPARTMENT OF THE INTERIOR

National Park Service

Notice of Inventory Completion for Native American Human Remains and Associated Funerary Objects in the Possession of the Tongass National Forest, U.S. Forest Service, Petersburg, AK

AGENCY: National Park Service, Interior.

ACTION: Notice.

Notice is hereby given in accordance with provisions of the Native American Graves Protection and Repatriation Act (NAGPRA), 43 CFR 10.9, of the completion of an inventory of human remains and associated funerary objects in possession of the Tongass National Forest, U.S. Forest Service, Petersburg, AK.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by U.S. Forest Service professional staff in consultation with representatives of the Wrangell Cooperative Association.

In 1976, local school students removed human remains representing one individual and 60 shell beads from the Coffman Cove Site, Prince of Wales Island, AK and donated them to the Tongass National Forest, U.S. Forest Service. Examination of the site determined that the burial was intrusive into the older occupations of the site. Examination of the remains suggested that they were less than 100 years old. No known individual was identified. The shell beads are the only associated funerary objects.

Later in 1976, U.S. Forest Service archeologists conducted excavations at the Coffman Cove Site that yielded human remains representing one individual. The stratigraphic context of the remains suggests that the remains date to A.D. 500-650. No known individual was identified. No associated funerary objects were recovered with the remains.

Based on the results of cranial morphometric analysis, these human remains are determined to be Native American. Ethnographic evidence and oral history indicates that Prince of Wales Island, AK, where the remains and funerary objects were found, was within the traditional territory of the Stikine Tlingit when both sets of remains were deposited. The archeological record of southeastern Alaska documents cultural continuity over the last 4,000 years, demonstrating that Stikine Tlingit territory has included Coffman Cove throughout that period.

In 1977, human remains representing two individuals were discovered in the Wrangell Burial Cave Site (Alaska Heritage Resource Survey Site PET092) on the eastern side of Wrangell Island, AK by Alaska Department of Fish and Game employees. The condition of the remains suggests that they are less than 500 years old. No known individuals were identified. No objects were recovered with the remains.

Based on the results of cranial morphometric analysis, the human remains are determined to be Native American. Ethnographic evidence indicates that Wrangell Island was within the traditional territory of the Stikine Tlingit when the remains were deposited.

In 1985, U.S. Forest Service archeologists and Wrangell Cooperative Association representatives jointly removed human remains contained in a bentwood box from the Stikine Strait Pictograph and Bentwood Box Site (Alaska Heritage Resource Survey Site PET246), Zarembo Island, AK. These remains represent one individual. No known individual was identified. The one associated funerary object is a cedar container.

Based on the associated funerary object and manner of interment, the human remains are determined to be Native American. The presence of the wooden box indicates that the burial was relatively recent in date. Ethnographic evidence and oral history indicates that Zarembo Island, AK, where the remains were found, is within the traditional territory of the Stikine Tlingit.

The Wrangell Cooperative Association represents the Stikine Tlingit for the purposes of repatriation of remains from this area of Alaska. The Wrangell Cooperative Association has identified the islands of Prince of Wales, Wrangell, and Zarembo, AK, as part of the traditional occupational territory for the Stikine Tlingit. There is no evidence to indicate otherwise.

Based on the above-mentioned information, officials of the U.S. Forest Service have determined that, pursuant to 43 CFR 10.2(d)(1), the human remains listed above represent the physical remains of five individuals of Native American ancestry. Officials of the U.S. Forest Service, also have determined that, pursuant to 43 CFR 10.2(d)(2), the 61 objects listed above are reasonably believed to have been placed with or near individual human remains at the time of death or later as part of the death rite or ceremony. Lastly, officials of the United States Forest Service have determined that, pursuant to 43 CFR 10.2(e), there is a relationship of shared group identity that can be reasonably traced between these Native American human remains and associated funerary objects and the Wrangell Cooperative Association, representing the Stikine Tlingit.

This notice has been sent to officials of the Wrangell Cooperative Association. Representatives of any other Indian tribe that believes itself to be culturally affiliated with these human remains and associated funerary objects should contact Carol Jorgensen, Assistant Forest Supervisor, Tongass National Forest, P.O. Box 309, Petersburg, AK, 99833, telephone (907) 772-3841, before September 15, 2000. Repatriation of the human remains and associated funerary objects to the Stikine Tlingit, represented by the Wrangell Cooperative Association, may begin after that date if no additional claimants come forward.

Dated: August 10, 2000.
John Robbins,
Assistant Director, Cultural Resources Stewardship and Partnerships.

[FR Doc. 00-20827 Filed 8-15-00; 8:45 am]

BILLING CODE 4310-70-F